SURFACE TRANSPORTATION BOARD

[Docket No. EP 558 (Sub-No. 28)]

Railroad Cost of Capital—2024

AGENCY: Surface Transportation Board.

ACTION: Notice.

SUMMARY: The Board is instituting a proceeding to determine the railroad industry's cost of capital for 2024. The decision solicits comments on the following issues: the railroads' 2024 current cost of debt capital, the railroads' 2024 current cost of preferred equity capital (if any), the railroads' 2024 cost of common equity capital, and the 2024 capital structure mix of the railroad industry on a market value basis.

DATES: Notices of intent to participate are due by February 21, 2025. Statements of the railroads are due by March 14, 2025. Statements of other interested persons are due by April 4, 2025. Rebuttal statements by the railroads are due by April 25, 2025.

ADDRESSES: Comments may be filed with the Board via e-filing on the Board's website.

FOR FURTHER INFORMATION CONTACT: Pedro Ramirez at (202) 245-0333. If you require an accommodation under the Americans with Disabilities Act, please call (202) 245-0245.

SUPPLEMENTARY INFORMATION: The decision in this proceeding is posted at www.stb.gov.

Authority: 49 U.S.C. 10704(a).

Decided: January 6, 2025.
By the Board, Board Members Fuchs, Hedlund, Primus, and Schultz.
Jeffrey Herzig,
Clearance Clerk.

[FR Doc. 2025-00394 Filed 1-8-25; 8:45 am]

BILLING CODE 4915-01-P